DEPARTMENT OF THE INTERIOR

National Park Service

[NPS-WASO-CONC-0511-7182; 2410-OYC]

Temporary Concession Contract for Blue Ridge Parkway

AGENCY: National Park Service, Interior.

ACTION: Notice of proposed award of temporary concession contracts for Blue Ridge Parkway, NC/VA.

SUMMARY: Pursuant to 36 CFR 51.24, public notice is hereby given that the National Park Service (NPS) proposes to award temporary concession contracts for the conduct of certain visitor services within the Blue Ridge Parkway, North Carolina and Virginia, for a term not to exceed 3 years. The visitor services range from lodging accommodations, food and beverage, retail sales, boat rentals, and other services at Crabtree Falls, Price Lake, Bluffs, Mabry Mills, and Rocky Knob. This action is necessary to avoid interruption of visitor services.

DATES: The term of the temporary concession contracts will commence (if awarded) on or around June 1, 2011.

SUPPLEMENTARY INFORMATION: The National Park Service will award the temporary concession contracts to qualified persons as defined in 36 CFR 51.3. The National Park Service has determined that temporary concession contract are necessary in order to avoid interruption of visitor services and has taken all reasonable and appropriate steps to consider alternatives to avoid an interruption of visitor services.

This action is issued pursuant to 36 CFR 51.24(a). This is not a request for proposals.

Dated: May 6, 2011.
Peggy O'Dell,
Deputy Director, National Park Service.

[FR Doc. 2011-15060 Filed 6-17-11; 8:45 am]

BILLING CODE 4310-53-P